OFFICE OF THE UNITED STATES TRADE REPRESENTATIVE

Status of Algeria Under the Tariff Act of 1930, as Amended

AGENCY: Office of the United States Trade Representative.

ACTION: Notice.

SUMMARY: For purposes of the Tariff Act of 1930, as amended (Act), the U.S. Trade Representative has determined that Algeria is not a “Subsidies Agreement country”.

DATES: This determination is applicable on July 15, 2025.

FOR FURTHER INFORMATION CONTACT: Michael Gagain, Senior Associate General Counsel, 202.395.9529, Michael.T.Gagain@ustr.eop.gov.

SUPPLEMENTARY INFORMATION:

I. Background

The U.S. International Trade Commission (Commission) is conducting a countervailing duty investigation on steel concrete reinforcing bar from Algeria. With respect to that investigation, the Commission on June 13, 2025, asked the U.S. Trade Representative to advise whether Algeria qualifies as a “Subsidies Agreement country” within the meaning of Section 701(b) of the Act, for purposes of Section 701(c) (19 U.S.C. 1671(b)-(c)). Under Section 1-103(b) of Executive Order 12188 of January 2, 1980, the President delegated the functions under section 2(b) of the Trade Agreements Act of 1979 and Section 701(b) of the Act to the U.S. Trade Representative, who exercises this delegated authority with the advice of the Trade Policy Committee.

II. Determination

The U.S. Trade Representative, in conformance with Section 2(b) of the Trade Agreements Act of 1979 and Section 701(b) of the Act, and Section 1-103(b) of Executive Order 12188, and after seeking the advice of the Trade Policy Committee, has determined that:

1. Pursuant to section 701(b)(1) of the Act, Algeria is not a World Trade Organization Member country;

2. Pursuant to section 701(b)(2) of the Act, Algeria has not assumed any obligations with respect to the United States that are substantially equivalent to the obligations under the World Trade Organization Agreement on Subsidies and Countervailing Measures; and

3. Pursuant to section 701(b)(3) of the Act, there is no agreement in effect between the United States and Algeria that was in force on the date of the enactment of the Uruguay Round Agreements Act, which requires unconditional most-favored-nation treatment with respect to articles imported into the United States, and which does not expressly permit either:

(i) actions required or permitted by the GATT 1947 or GATT 1994, as defined in Section 2(1) of the Uruguay Round Agreements Act, or required by the Congress; or

(ii) nondiscriminatory prohibitions or restrictions on importation which are designed to prevent deceptive or unfair practices.

Therefore, Algeria is not a “Subsidies Agreement country” within the meaning of section 701(b) of the Act.

Jennifer Thornton,
General Counsel, Office of the United States Trade Representative.

[FR Doc. 2025-13590 Filed 7-18-25; 8:45 am]

BILLING CODE 3390-F4-P